DEPARTMENT OF LABOR

Employment and Training Administration

[TA-W-71,321]

Auburn Hosiery Mills, Inc., Currently Known as Delta Galil, Including On-Site Leased Workers From Quality Personnel, Auburn, KY; Amended Certification Regarding Eligibility To Apply for Worker Adjustment Assistance

In accordance with section 223 of the Trade Act of 1974, as amended (“Act”), 19 U.S.C. 2273, the Department of Labor issued a Certification of Eligibility to Apply for Worker Adjustment Assistance on July 8, 2009, applicable to workers of Auburn Hosiery Mills, Inc., including on-site leased workers from Quality Personnel, Auburn, Kentucky. The notice was published in the Federal Register on August 19, 2009 (74 FR 41933).

At the request of the state agency, the Department reviewed the certification for workers of the subject firm. The workers are engaged in activities related to distribution, administration and quality control services related to apparel.

Information shows that Auburn Hosiery Mills was merged into its parent company, Delta Galil on January 1, 2010 and is now known as Delta Galil. Some of the workers separated from employment at the subject firm had their wages reported under a separate unemployment insurance (UI) tax account under the name of Delta Galil.

Accordingly, the Department is amending this certification to properly reflect this matter.

The intent of the Department's certification is to include all workers of the subject firm who were adversely affected by the shift in distribution, administration and quality control services to Bangladesh and China.

The amended notice applicable to TA-W-71,321 is hereby issued as follows:

All workers of Auburn Hosiery Mills, Inc., Delta Galil, including on-site leased workers from Quality Personnel, Auburn, Kentucky, who became totally or partially separated from employment on or after June 18, 2008, through July 8, 2011, and all workers in the group threatened with total or partial separation from employment on the date of certification through two years from the date of certification, are eligible to apply for adjustment assistance under Chapter 2 of Title II of the Trade Act of 1974, as amended.

Signed in Washington, DC, this 5th day of April, 2010.
Elliott S. Kushner,
Certifying Officer, Division of Trade Adjustment Assistance.

[FR Doc. 2010-8890 Filed 4-16-10; 8:45 am]

BILLING CODE 4510-FN-P